FEDERAL DEPOSIT INSURANCE CORPORATION

[OMB No. 3064-0025; -0200; -0214]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (OMB Control No. 3064-0025; -0200; and -0214).

DATES: Comments must be submitted on or before January 6, 2025.

ADDRESSES: Interested parties are invited to submit written comments to the FDIC by any of the following methods:

• Agency Website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION: Proposal to renew the following currently approved collections of information:

1. Title: Application for Consent to Exercise Trust Powers.

OMB Number: 3064-0025.

Form Number: 6200/09.

Affected Public: Insured state nonmember banks wishing to exercise trust powers.

Burden Estimate:

Summary of Estimated Annual Burden (OMB No. 3064-0025)
Information collection (IC) (obligation to respond) | Type of burden (frequency of response) | Number of respondents | Number of responses per respondent | Average time per response (HH:MM) | Annual burden (hours)
1. Application for Consent to Exercise Trust Powers—Eligible Depository Institutions 12 CFR 303.242 (Mandatory) | Reporting (On Occasion) | 3 | 1 | 08:00 | 24
2. Application for Consent to Exercise Trust Powers—Not-Eligible Depository Institutions, 12 CFR 303.242 (Mandatory) | Reporting (On Occasion) | 1 | 1 | 24:00 | 24
Total Annual Burden (Hours) |  |  |  |  | 48
Source: FDIC.

General Description of Collection: FDIC regulations (12 CFR 333.2) prohibit any insured State nonmember bank from changing the general character of its business without the prior written consent of the FDIC. The exercise of trust powers by a bank is usually considered a change in the general character of a bank's business if the bank did not exercise those powers previously. Therefore, unless a bank is currently exercising trust powers, it must file a formal application to obtain the FDIC's written consent to exercise trust powers. State banking authorities, not the FDIC, grant trust powers to their banks. The FDIC merely consents to the exercise of such powers. Applicants use form FDIC 6200/09 to obtain FDIC's consent. There is no change in the methodology or substance of this information collection. The decrease in total estimated annual burden from 72 hours in 2022 to 48 hours currently is due to decrease in the number of applications for expedited processing from eligible depository institutions.

2. Title: Joint Standards for Assessing Diversity Policies and Practices.

OMB Number: 3064-0200.

Form Number: 2710/05—Diversity Self-Assessment (paper form), 2710/06—Diversity Self-Assessment (electronic form).

Affected Public: Insured State nonmember banks, and insured State savings associations.

Burden Estimate:

Summary of Estimated Annual Burden (OMB No. 3064-0200)
Information collection (IC) (obligation to respond) | Type of burden (Frequency of response) | Number of respondents | Number of responses per respondent | Time per response (HH:MM) | Annual burden (hours)
1. Joint Standards for Assessing Diversity Policies and Practices—Paper Form, Interagency policy statement (Voluntary) | Reporting (Annual) | 6 | 1 | 08:00 | 48
2. Joint Standards for Assessing Diversity Policies and Practices—Electronic Form (Implementation), Interagency policy statement (Voluntary) | Reporting (Annual) | 36 | 1 | 07:00 | 252
3. Joint Standards for Assessing Diversity Policies and Practices—Electronic Form (Ongoing), Interagency policy statement (Voluntary) | Reporting (Annual) | 139 | 1 | 03:00 | 417
4. Joint Standards for Assessing Diversity Policies and Practices—Free-Form, Interagency policy statement (Voluntary) | Reporting (Annual) | 6 | 1 | 12:00 | 72
5. Joint Standards for Assessing Diversity Policies and Practices—Non-material, Interagency policy statement (Voluntary) | Reporting (Annual) | 14 | 1 | 00:06 | 1
6. Joint Standards for Assessing Diversity Policies and Practices—Public Disclosure, Interagency policy statement (Voluntary) | Disclosure (Annual) | 201 | 1 | 01:00 | 201
Total Annual Burden (Hours) |  |  |  |  | 991
Source: FDIC.

General Description of Collection: Section 342 of the Dodd-Frank Wall Street Reform and Consumer Protection Act of 2010 (the Act) required the Office of the Comptroller of the Currency, the Federal Reserve System, the FDIC, the Consumer Financial Protection Bureau, and the Securities and Exchange Commission each to establish an Office of Minority and Women Inclusion (OMWI) to be responsible for all matters of the agency relating to diversity in management, employment, and business activities. The Act also instructed each OMWI director to develop standards for assessing the diversity policies and practices of entities regulated by the agency. The agencies worked together to develop joint standards (Joint Standards) and, on June 10, 2015, they jointly published in the Federal Register the “Final Interagency Policy Statement Establishing Joint Standards for Assessing the Diversity Policies and Practices of Entities Regulated by the Agencies” (Policy Statement). The Policy Statement includes Joint Standards that cover “Practices to Promote Transparency of Organizational Diversity and Inclusion.” These Joint Standards contemplate that a regulated entity is transparent about its diversity and inclusion activities by making certain information available to the public annually on its websites or through other appropriate communications methods, in a manner reflective of the entity's size and other characteristics. The specific information referenced in these standards is (a) the entity's diversity and inclusion strategic plan; (b) its policy on its commitment to diversity and inclusion; (c) its progress toward achieving diversity and inclusion in its workforce and procurement activities; and (d) opportunities available at the entity that promote diversity. In addition, the Policy Statement includes Joint Standards that address “Entities' Self-Assessment.” The Joint Standards for Entities' Self-Assessment envision that a regulated entity, in a manner reflective of its size and other characteristics, (a) conducts annually a voluntary self-assessment of its diversity policies and practices; (b) monitors and evaluates its performance under its diversity policies and practices on an ongoing basis; (c) provides information pertaining to its self-assessment to the OMWI Director of its primary Federal financial regulator; and (d) publishes information pertaining to its efforts with respect to the Joint Standards. There is no change in the methodology or substance of this information collection. The decrease in total estimated annual burden from 1560 hours in 2022 to 991 hours currently is due to the expectation that most repeat respondent banks would use the copy/clone feature in Financial Institution Diversity-Self Assessment (FID-SA) for their future submissions, thereby saving a substantial amount of response time and reducing their overall burden hours.

3. Title: Computer Security Incident Notification Requirements.

OMB Number: 3064-0214.

Form Number: None.

Affected Public: Businesses or other for-profit.

Burden Estimate:

Summary of Estimated Annual Burden (OMB No. 3064-0214)
Information collection (IC) (obligation to respond) | Type of burden (frequency of response) | Number of respondents | Number of responses per respondent | Time per response (HH:MM) | Annual burden (hours)
1. Notification Incident Reporting, 12 CFR 304.23 (Mandatory) | Reporting (On Occasion) | 67 | 1.25 | 03:00 | 252
2. Service Provider Notification, 12 CFR 304.24 (Mandatory) | Reporting (On Occasion) | 832 | 1 | 03:00 | 2,496
Total Annual Burden (Hours) |  |  |  |  | 2,748
Source: FDIC.

General Description of Collection: The Office of the Comptroller of the Currency, Board of Governors of the Federal Reserve System, and the FDIC are issuing a notice of proposed rulemaking (the proposed rule) that would require a banking organization to notify its primary Federal regulator upon the occurrence of a significant computer security incident. This notification requirement is intended to serve as an early alert to a banking organization's primary Federal regulator and is not intended to include an assessment of the incident. The proposed rule would allow a banking organization to authorize or contract with a bank service provider to allow the bank service provider to make the relevant notifications to the banking organization's primary Federal regulator on the banking organization's behalf. Moreover, a bank service provider as defined herein and in accordance with the Bank Service Company Act (BSCA) would be required to notify affected banking organization customers within four hours of when it experiences a computer-security incident that it reasonably believes could disrupt, degrade, or impair services provided subject to the BSCA for four or more hours. “Bank service providers” would include both bank service companies and third-party service providers, under the BSCA. There is no change in the methodology or substance of this information collection. The increase in total estimated annual burden from 2,694 in 2022 to 2,748 currently is due to a change in the estimated number or respondents.

Request for Comment

Comments are invited on: (a) whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Federal Deposit Insurance Corporation.
Dated at Washington, DC, on October 31, 2024.
James P. Sheesley,
Assistant Executive Secretary.

[FR Doc. 2024-25699 Filed 11-4-24; 8:45 am]

BILLING CODE 6714-01-P